DEPARTMENT OF ENERGY

Federal Energy Regulatory Commission

Combined Notice of Filings

November 3, 2009.

Take notice that the Commission has received the following Natural Gas Pipeline Rate and Refund Report filings:

Docket Numbers: RP10-110-000.

Applicants: Gulf Crossing Pipeline Company LLC.

Description: Gulf Crossing Pipeline Company, LLC submits an amendment to negotiated rate letter agreements with Enterprise Products Operating LLC re the Gulf Crossing Project.

Filed Date: 10/30/2009.

Accession Number: 20091102-0105.

Comment Date: 5 p.m. Eastern Time on Thursday, November 12, 2009.

Docket Numbers: RP10-111-000.

Applicants: Equitrans, L.P.

Description: Equitrans, LP submits Seventh Revised Tariff Sheets No. 317 to FERC Gas Tariff, Original volume No. 1, effective 11/1/09 .

Filed Date: 10/30/2009.

Accession Number: 20091102-0106.

Comment Date: 5 p.m. Eastern Time on Thursday, November 12, 2009.

Docket Numbers: RP10-112-000.

Applicants: Gulf South Pipeline Company, LP.

Description: Gulf South Pipeline Company, LP submits an amendment to a negotiated rate letter agreement with ONEOK Entergy Services Co., LP re the Southeast Expansion Project.

Filed Date: 10/30/2009.

Accession Number: 20091102-0107.

Comment Date: 5 p.m. Eastern Time on Thursday, November 12, 2009.

Docket Numbers: RP10-113-000.

Applicants: Gulf South Pipeline Company, LP.

Description: Gulf South Pipeline Company, LP submits capacity release agreement containing negotiated rate provisions executed by Texla Energy Management, Inc.

Filed Date: 10/30/2009.

Accession Number: 20091102-0108.

Comment Date: 5 p.m. Eastern Time on Thursday, November 12, 2009.

Docket Numbers: RP10-115-000.

Applicants: CenterPoint Energy Gas Transmission Company.

Description: CenterPoint Energy Gas Transmission Company submits amended negotiated rate agreement between CEGT and BD Energy Trading LLC.

Filed Date: 10/30/2009.

Accession Number: 20091102-0152.

Comment Date: 5 p.m. Eastern Time on Thursday, November 12, 2009.

Docket Numbers: RP10-116-000.

Applicants: CenterPoint Energy Gas Transmission Co.

Description: CenterPoint Energy Gas Transmission Company submits amended negotiated rate agreement between CEGT and Tenaska Marketing Ventures.

Filed Date: 10/30/2009.

Accession Number: 20091102-0153.

Comment Date: 5 p.m. Eastern Time on Thursday, November 12, 2009.

Docket Numbers: RP10-117-000.

Applicants: Algonquin Gas Transmission Company.

Description: Algonquin Gas Transmission, LLC submits Fourth Revised Sheet 40 to FERC Gas Tariff, Fifth Revised Volume 1, to be effective 12/1/09.

Filed Date: 11/02/2009.

Accession Number: 20091102-0154.

Comment Date: 5 p.m. Eastern Time on Monday, November 16, 2009.

Docket Numbers: RP10-118-000.

Applicants: Gulf South Pipeline Company, LP.

Description: Gulf South Pipeline Company, LP submits capacity release agreements containing negotiated rate provisions executed with BP Energy Company.

Filed Date: 10/30/2009.

Accession Number: 20091102-0158.

Comment Date: 5 p.m. Eastern Time on Thursday, November 12, 2009.

Docket Numbers: RP10-119-000.

Applicants: Natural Gas Pipeline Company of America.

Description: Natural Gas Pipeline Company of America LLC submits an amendment to the Transportation Rate Schedules FTS Agreement with a negotiated rate exhibit with Wisconsin Electric Power Company.

Filed Date: 10/30/2009.

Accession Number: 20091102-0155.

Comment Date: 5 p.m. Eastern Time on Thursday, November 12, 2009.

Docket Numbers: RP10-120-000.

Applicants: Texas Eastern Transmission LP.

Description: Texas Eastern Transmission, LP submits Forty-Sixth Revised Sheet 26 et al. to FERC Gas Tariff, Seventh Revised Volume 1 and First Revised Volume 2, to be effective 12/1/09.

Filed Date: 10/30/2009.

Accession Number: 20091103-0054.

Comment Date: 5 p.m. Eastern Time on Thursday, November 12, 2009.

Docket Numbers: RP10-121-000.

Applicants: Texas Gas Transmission, LLC.

Description: Texas Gas Transmission, LLC submits three negotiated rate agreements with Duke Energy Kentucky, Inc. et al.

Filed Date: 11/02/2009.

Accession Number: 20091103-0053.

Comment Date: 5 p.m. Eastern Time on Monday, November 16, 2009.

Docket Numbers: RP10-122-000.

Applicants: Tennessee Gas Pipeline Company.

Description: Tennessee Gas Pipeline Company submits Fifth Revised Sheet 412A et al. to its FERC Gas Tariff, Fifth Revised Volume 1, effective 12/2/09.

Filed Date: 11/02/2009.

Accession Number: 20091103-0052.

Comment Date: 5 p.m. Eastern Time on Monday, November 16, 2009.

Docket Numbers: RP10-123-000.

Applicants: ANR Pipeline Company.

Description: ANR Pipeline Company submits Rate Schedule ETS and eleven Rate Schedule FTS-1 negotiated rate service agreements, to be effective 11/1/09.

Filed Date: 11/02/2009.

Accession Number: 20091103-0051.

Comment Date: 5 p.m. Eastern Time on Monday, November 16, 2009.

Docket Numbers: RP10-124-000.

Applicants: Tennessee Gas Pipeline Company.

Description: Tennessee Gas Pipeline Company submits Eighteenth Revised Sheet 4 to its FERC Gas Tariff, Original Volume 2, effective 12/2/09 under RP10-124.

Filed Date: 11/02/2009.

Accession Number: 20091103-0050.

Comment Date: 5 p.m. Eastern Time on Monday, November 16, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-27300 Filed 11-12-09; 8:45 am]

BILLING CODE 6717-01-P